SMALL BUSINESS ADMINISTRATION

National Federal Regulatory Enforcement Fairness Hearing Region III Regulatory Fairness Board

AGENCY: U.S. Small Business Administration (SBA).

ACTION: Notice of open hearing of the Regional (Region III) Small Business Regulatory Fairness Board.

SUMMARY: The SBA, Office of the National Ombudsman is issuing this notice to announce the location, date and time of the National Federal Regulatory Enforcement Fairness Hearing. This hearing is open to the public.

DATES: The hearing will be held on Tuesday, May 24, 2011, from 9 a.m. to 1 p.m. (EST).

ADDRESSES: The hearing will be at the Horowitz Visual and Performing Arts Center—Smith Theatre, Howard Community College, 10901 Little Patuxent Parkway, Columbia, MD 21044.

SUPPLEMENTARY INFORMATION: Pursuant to the Small Business Regulatory Enforcement Fairness Act (Pub. L. 104-121), Sec. 222 and the Federal Advisory Committee Act. 5 U.S.C. Appendix 2, notice is hereby given that the U.S. Small Business Administration (SBA) Region III Regional Small Business Regulatory Fairness Board and the SBA Office of the National Ombudsman announces the hearing for Small Business Owners, Business Organizations, Trade Associations, Chambers of Commerce and related organizations serving small business concerns to report experiences regarding unfair or excessive Federal regulatory enforcement issues affecting their members. Free parking is available at the college. Anyone outside the Washington Metropolitan area planning to testify at the hearing, can use our toll-free teleconference number (ReadyTalk) by dialing (866) 740-1260 and the Access Code is 3212002#.

FOR FURTHER INFORMATION CONTACT: The hearing is open to the public; however, advance notice of attendance is requested. Anyone wishing to attend and/or make a presentation to Region III Regulatory Fairness Board must contact José Méndez by May 19, 2011, in writing, by fax or e-mail in order to be placed on the agenda. José Méndez, Case Management Specialist, SBA Headquarters, 409 3rd Street, SW., Suite 7125, Washington, DC, phone (202) 205-6178 and fax (202) 481-2707, e-mail: Jose.mendez@sba.gov. Additionally, if you need accommodations because of a disability or require additional information, please contact José Méndez.

For more information on the Office of the National Ombudsman, see our Web site at http://www.sba.gov/ombudsman.

Dated: April 29, 2011.
Dan Jones,
SBA Committee Management Officer.

[FR Doc. 2011-11145 Filed 5-5-11; 8:45 am]

BILLING CODE P